DEPARTMENT OF TRANSPORTATION

Office of the Secretary

Applications for Certificates of Public Convenience and Necessity and Foreign Air Carrier Permits

Notice of Applications for Certificates of Public Convenience and Necessity and Foreign Air Carrier Permits Filed Under Subpart B (formerly Subpart Q) during the Week Ending September 28, 2013. The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2007-28567.

Date Filed: September 26, 2013.

Due Date for Answers, Conforming Applications, or Motion to Modify Scope: October 17, 2013.

Description:Application of United Airlines, Inc. requesting renewal of its certificate authority to provide scheduled air transportation of persons, property, and mail between Newark Liberty and Shanghai on Segment 2 of United's certificate for Route 821.

Barbara J. Hairston,
Supervisory Dockets Officer, Docket Operations, Federal Register Liaison.

[FR Doc. 2013-24807 Filed 10-22-13; 8:45 am]

BILLING CODE 4910-9X-P